DEPARTMENT OF THE INTERIOR

Bureau of Land Management

[WYW 88021]

Notice of Proposed Extension of Public Land Order No. 6581; Opportunity for Public Meeting; Wyoming

AGENCY: Bureau of Land Management, Interior.

ACTION: Notice.

SUMMARY: As required by 43 CFR 2310.3-1, notice is hereby given that the Department of Housing and Urban Development (HUD) has filed an application to extend Public Land Order (PLO) No. 6581 for a 20-year period. This notice also gives an opportunity to comment on the proposed action and to request a public meeting. PLO No. 6581 will expire on January 5, 2005.

DATES: Comments and requests for a public meeting must be received by August 23, 2004.

ADDRESSES: Comments and meeting requests should be sent to the BLM Wyoming State Director, P.O. Box 1828, Cheyenne, Wyoming 82003-1828.

FOR FURTHER INFORMATION CONTACT: Janet Booth, BLM Wyoming State Office, 307-775-6124.

SUPPLEMENTARY INFORMATION: On April 14, 2004, HUD filed an application to extend PLO No. 6581. This order withdrew non-public land in which the United States may hereafter acquire interests from settlement, sale, location, or entry under the public land laws, but not the mining laws, for the purpose of protecting the equity of HUD in the development of public housing. The mineral estate of the land is owned by the State of Wyoming. The withdrawal comprises approximately 5.55 acres as described below:

Sixth Principal Meridian

A tract of land, being a portion of Parcel A, Township 50 and 51 North, Range 82 West, 6th P.M., Johnson County, Wyoming, being further described as follows: Commencing at an existing brass cap which marks the center of Section 34, Township 51 North, Range 82 West, 6th P.M., in Johnson County, Wyoming; thence S. 00°28′00″ E. a distance of 79.03 feet to an aluminum capped rebar stamped LS 2335, said aluminum capped rebar being the true point of beginning; thence N. 89°58′15″ E. a distance of 331.71 feet to an aluminum capped rebar stamped LS 2335; thence S. 18°59′05″ E. a distance of 181.79 feet to an aluminum capped rebar stamped LS 2335; thence S. 79°29′04″ E. a distance of 122.52 feet to an aluminum capped rebar stamped LS 2335; thence S. 00°28′00″ E. a distance of 328.52 feet to an existing iron pipe; thence S. 89°01′06″ W. a distance of 209.65 feet to an existing iron pipe; thence S. 89°04′17″ W. a distance of 300.09 feet to an existing iron pipe; thence N. 00°28′00″ W. a distance of 531.06 feet to the true point of beginning.

For a period of 90 days from the date of publication of this notice, all persons who wish to submit comments, suggestions, or objections in connection with the proposed extension may present their views in writing to the undersigned officer of the BLM.

Comments, including names and street addresses of respondents, will be available for public review at the BLM Wyoming State Office, 5353 Yellowstone Rd., Cheyenne, Wyoming, during regular business hours 9 a.m. to 4 p.m. Monday through Friday, except holidays. Individual respondents may request confidentiality. If you wish to withhold your name or address from public review or from disclosure under the Freedom of Information Act, you must state this prominently at the beginning of your comments. Such requests will be honored to the extent allowed by law. BLM will not consider anonymous comments. All submissions from organizations or businesses, and from individuals identifying themselves as representatives or officials of organizations or businesses, will be made available for public inspection in their entirety.

Notice is hereby given that an opportunity for a public meeting is afforded in connection with the proposed extension. All interested persons who desire a public meeting for the purpose of being heard on the proposed extension should submit a written request to the BLM Wyoming State Director within 90 days from the date of publication of this notice. If the authorized officer determines that a public meeting will be held, a notice of the time and place will be published in the Federal Register at least 30 days before the scheduled date of the meeting.

This extension will be processed in accordance with the regulations set forth in 43 CFR 2310.4.

Dated: April 22, 2004.
Melvin Schlagel,
Realty Officer.

[FR Doc. 04-11726 Filed 5-24-04; 8:45 am]

BILLING CODE 4210-33-P